DEPARTMENT OF THE INTERIOR

Fish and Wildlife Service

Notice of Availability of the Technical/Agency Draft Florida Manatee Recovery Plan, Third Revision for Review and Comment

AGENCY: Fish and Wildlife Service, Interior.

ACTION: Notice of document availability and public comment period.

SUMMARY: We, the Fish and Wildlife Service, announce the availability for public review of the Technical/Agency Draft of the Florida Manatee Recovery Plan, Third Revision. We solicit review and written comments from the public on this draft plan.

DATES: We must receive comments on the draft recovery plan on or before January 30, 2001 to receive consideration by us.

ADDRESSES: You may obtain a copy of the draft recovery plan by contacting Bill Brooks by electronic mail (e-mail) at billy_brooks@fws.gov or by calling (904)232-2580, extension 104 or at Jacksonville Field Office, U.S. Fish and Wildlife Service, 6620 Southpoint Drive, South, Suite 310, Jacksonville, Florida, 32216. If you wish to comment, you may submit your comments by any one of several methods:

1. You may submit written comments and information to the Field Supervisor, at the above address.

2. You may hand-deliver written comments to our Jacksonville Field Office, at the above address, or fax your comments to (904)232-2404.

3. You may send comments by e-mail to billy_brooks@fws.gov. For directions on how to submit electronic filing of comments, see the “Public Comments Solicited” section.

Comments and materials received are available on request for public inspection, by appointment, during normal business hours at the above address.

FOR FURTHER INFORMATION CONTACT: Bill Brooks (see ADDRESSES section).

SUPPLEMENTARY INFORMATION:

Background

The West Indian manatee, Trichechus manatus, is currently listed as endangered throughout its range for both the Florida and Antillean subspecies (U.S. Fish and Wildlife Service 1967). The Florida manatee lives in freshwater, brackish, and marine habitats. Submerged, emergent, and floating vegetation are their preferred food. During the winter, cold temperatures keep the population concentrated in peninsular Florida and many manatees rely on the warm water from natural springs and power plant outfalls. During the late spring and summer, they expand their range and are seen on infrequent occasions as far north as Rhode Island on the Atlantic Coast and as far west as Texas on the Gulf Coast.

The most significant problem presently faced by manatees in Florida is death and serious injury from boat strikes. The availability of warm-water refuges for manatees is uncertain as deregulation of the power industry in Florida occurs, and if minimum flows and levels are not established and maintained for the natural springs on which many manatees depend. Consequences of a burgeoning human population and intensive coastal development are long-term threats to the Florida manatee. Their survival will depend on maintaining the integrity of ecosystems and habitat sufficient to support a viable manatee population.

Restoring an endangered or threatened animal or plant to the point where it is again a secure, self-sustaining member of its ecosystem is a primary goal of the endangered species program. To help guide the recovery effort, we are preparing recovery plans for most of the listed species native to the United States. Recovery plans describe actions considered necessary for conservation of the species, establish criteria for downlisting or delisting them, and estimate time and cost for implementing the recovery measures needed.

The Endangered Species Act of 1973, as amended (16 U.S.C. et seq.) (Act), requires the development of recovery plans for listed species unless such a plan would not promote the conservation of a particular species. Section 4(f) of the Act, as amended in 1988, requires that public notice and an opportunity for public review and comment be provided during recovery plan development. We will consider all information presented during a public comment period prior to approval of each new or revised recovery plan. We and other Federal agencies will take these comments into account in the course of implementing approved recovery plans.

We developed the initial recovery plan for West Indian manatee in 1980. This plan focused primarily on manatees in Florida, but included Antillean manatees in Puerto Rico and the U.S. Virgin Islands. In 1986, we adopted a separate recovery plan for manatees in Puerto Rico. To reflect new information and planning needs for manatees in Florida, we revised the original plan in 1989 and focused exclusively on the Florida manatee. This first revision covered a 5-year planning period ending in 1994. We revised and updated the plan again in 1996, which again covered a 5-year planning period ending in 2000. In 1999, we initiated the process to revise the plan for a third time. We established an 18-member recovery team made up of the public, agencies, and groups that have an interest in manatee recovery and/or could be affected by proposed recovery actions, to draft this revision.

In the 20 years since approval of the original recovery plan, a tremendous amount of knowledge of manatee biology and ecology has been achieved and significant protection programs have been implemented, through the guidance provided by the recovery planning process. This Technical/Agency Draft of the Florida Manatee Recovery Plan, Third Revision reflects many of those accomplishments, addresses new threats and needs, and specifically addresses the planning requirements of the Act through 2006. This draft plan is based on discussions and information provided by the Florida Manatee Recovery Team.

Public Comments Solicited

We solicit written comments on the recovery plan described. We will consider all comments received by the date specified above prior to approval of the plan.

Please submit electronic comments as an ASCII file format and avoid the use of special characters and encryption. Please also include “Attn: [RIN number]” and your name and return address in your e-mail message. If you do not receive a confirmation from the system that we have received your e-mail message, contact us directly by calling our Jacksonville Field Office (see ADDRESSES section).

Our practice is to make all comments, including names and home addresses of respondents, available for public review during regular business hours. Individual respondents may request that we withhold their home address from the rulemaking record, which we will honor to the extent allowable by law. In some circumstances, we would withhold also from the rulemaking record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority: The authority for this action is section 4(f) of the Endangered Species Act, 16 U.S.C. 1533(f).

Dated: November 22, 2000.
David L. Hankla,
Field Supervisor.

[FR Doc. 00-30516 Filed 11-29-00; 8:45 am]

BILLING CODE 4310-55-U